DEPARTMENT OF THE INTERIOR

National Park Service

[NPS-WASO-NAGPRA-NPS0038352; PPWOCRADN0-PCU00RP14.R50000]

Notice of Inventory Completion: Stamford Museum & Nature Center, Stamford, CT

AGENCY: National Park Service, Interior.

ACTION: Notice.

SUMMARY: In accordance with the Native American Graves Protection and Repatriation Act (NAGPRA), the Stamford Museum & Nature Center has completed an inventory of human remains and has determined that there is a cultural affiliation between the human remains and Indian Tribes or Native Hawaiian organizations in this notice.

DATES: Repatriation of the human remains in this notice may occur on or after August 29, 2024.

ADDRESSES: Roanne Wilcox, Stamford Museum & Nature Center, 39 Scofieldtown Road, Stamford, CT 06903, telephone (203) 977-6543, email RWilcox@stamfordmuseum.org.

SUPPLEMENTARY INFORMATION: This notice is published as part of the National Park Service's administrative responsibilities under NAGPRA. The determinations in this notice are the sole responsibility of the Stamford Museum & Nature Center and additional information on the determinations in this notice, including the results of consultation, can be found in its inventory or related records. The National Park Service is not responsible for the determinations in this notice.

Abstract of Information Available

Human remains representing at least eight individuals have been identified. No associated funerary objects are present. The individuals were removed from the Everglades and Collier County in Florida by Dr. Ralph Ives and donated to the Stamford Museum in 1941. No hazardous substances were used to treat the remains.

Cultural Affiliation

Based on the information available and the results of consultation, cultural affiliation is reasonably identified by the geographical location or acquisition history of the human remains described in this notice.

Determinations

The Stamford Museum & Nature Center has determined that:

• The human remains described in this notice represent the physical remains of eight individuals of Native American ancestry.

• There is a connection between the human remains and the Seminole Tribe of Florida.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after August 29, 2024. If competing requests for repatriation are received, the Stamford Museum & Nature Center must determine the most appropriate requestor prior to repatriation. Requests for joint repatriation of the human remains are considered a single request and not competing requests. The Stamford Museum & Nature Center is responsible for sending a copy of this notice to the Indian Tribes and Native Hawaiian organizations identified in this notice.

Authority: Native American Graves Protection and Repatriation Act, 25 U.S.C. 3003, and the implementing regulations, 43 CFR 10.10.

Dated: July 17, 2024.
Melanie O'Brien,
Manager, National NAGPRA Program.

[FR Doc. 2024-16708 Filed 7-29-24; 8:45 am]

BILLING CODE 4312-52-P